POSTAL SERVICE BOARD OF GOVERNORS

Sunshine Act Meeting; Notification of Item Added to Meeting Agenda and Vote To Close Audit and Finance Committee Meeting

Date of Meeting: May 6, 2002.

Status: Closed.

Previous Announcement: 67 FR 20194, April 24, 2002.

Additions: Outside Audit Contract and Vote to Close Audit and Finance Committee Meeting.

At its meeting on May 6, 2002, the Board of Governors of the United States Postal Service voted unanimously to add consideration of an outside audit contract to the agenda of its closed meeting.

In addition, by telephone vote on May 2, a majority of the members contacted and voting, the Board voted to close to public observation the Audit and Finance Committee meeting scheduled for May 6, to consider resolution of an audit matter.

No earlier announcement of either of the above items was possible. The General Counsel of the United States Postal Service certified that in her opinion discussion of these items could be properly closed to public observation.

Contact Person for More Information: William T. Johnstone, Secretary of the Board, U.S. Postal Service, 475 L'Enfant Plaza, SW., Washington, DC 20260-1000.

William T. Johnstone,
Secretary.

[FR Doc. 02-12601 Filed 5-15-02; 2:23 pm]

BILLING CODE 7710-12-M